DEPARTMENT OF TRANSPORTATION

Federal Aviation Administration

Notice of Passenger Facility Charge (PFC) Approvals and Disapprovals

AGENCY: Federal Aviation Administration (FAA), DOT.

ACTION: Monthly notice of PFC approvals and disapprovals. In October 2011, there were six applications approved. This notice also includes information on one application, approved in September 2011, inadvertently left off the September 2011 notice. Additionally, 14 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Orlando, Florida.

Application Number: 11-14-C-00-MCO.

Application Type: Impose and use a PFC.

PFC Level: $3.00.

Total PFC Revenue Approved In This Decision: $26,952,400.

Earliest Charge Effective Date: February 1, 2026.

Estimated Charge Expiration Date: June 1, 2026.

Class of Air Carriers Not Required To Collect PFC's: None.

Brief Description of Projects Approved For Collection and Use:

Emergency electrical system improvements: Landside phase 2 and airside terminal 4 phase 1 (design and construction).

Enplane road structural improvements (design and construction).

Landside signage improvements (design and construction).

Taxiway B-2 extension and taxiway B-1 rehabilitation (design and construction).

Elevator and escalator safety code compliance improvements (design and construction).

Runway 18U36R structural joint rehabilitation.

Closed circuit television improvements (design and construction).

Brief Description of Projects Partially Approved For Collection and Use: Emergency radio dispatch system upgrade.

Determination: The emergency radio dispatch system is used for both eligible (aircraft rescue and firefighting and aviation security) and ineligible (normal law enforcement activities and medical emergencies) purposes. The PFC approval was limited to the cost associated with the eligible activities.

Airside 4 hub mechanical system improvements (design and construction).

Determination: That portion of the mechanical systems serving concessions and other non-public areas of the terminal was found to be ineligible.

Decision Date: September 28, 2011.

For Further Information Contact: Susan Moore, Orlando Airports District Office, (407) 812-6331.

Public Agency: City of Augusta, Georgia.

Application Number: 11-03-C-00-AGS.

Application Type: Impose and use a PFC.

PFC Level: $4.50.

Total PFC Revenue Approved in This Decision: $2,091,034.

Earliest Charge Effective Date: September 1, 2026.

Estimated Charge Expiration Date: November 1, 2027.

Class of Air Carriers Not Required to Collect PFC's: Air taxi operators filing FAA Form 1800-31.

Determination: Approved. Based on information contained in the public agency's application, the FAA has determined that the approved class accounts for less than 1 percent of the total annual enplanements at Augusta Regional Airport.

Brief Description of Projects Approved for Collection and Use:

Runway 17/35 rehabilitation.

General aviation terminal parking lot.

Decision Date: October 6, 2011.

For Further Information Contact: Anna Guss, Atlanta Airports district Office, (404) 305-7146.

Public Agency: County of Broome, Johnson City, New York.

Application Number: 11-15-C-00-BGM.

Application Type: Impose and use a PFC.

PFC Level: $4.50.

Total PFC Revenue Approved in this Decision: $298,884.

Earliest Charge Effective Date: December 1, 2015.

Estimated Charge Expiration Date: September 1, 2016.

Class of Air Carriers Not Required to Collect PFC's: Nonscheduled/on-demand air carriers filing FAA Form 1800-31.

Determination: Approved. Based on information contained in the public agency's application, the FAA has determined that the approved class accounts for less than 1 percent of the total annual enplanements at Greater Binghamton Airport.

Brief Description of Projects Approved For Collection and Use:

Replacement of aircraft rescue and firefighting gear.

Snow removal equipment purchase.

PFC administrative costs (2012-2016).

Airport master plan phase III.

West apron rehabilitation design.

West apron rehabilitation construction.

Purchase of portable Americans with Disabilities Act compliant passenger boarding ramp.

Decision Date: October 17, 2011.

For Further Information Contact: Andrew Brooks, New York Airports District Office, (516) 227-3816.

Public Agency: City of Atlanta, Georgia.

Application Number: 11-13-C-00-ATL.

Application Type: Impose and use a PFC.

PFC Level: $4.50.

Total PFC Revenue Approved in this Decision: $171,840,875.

Earliest Charge Effective Date: March 1, 2023.

Estimated Charge Expiration Date: April 1, 2024.

Class of Air Carriers Not Required to Collect PFC's: Air taxi/commercial operators when enplaning revenue passengers in limited, irregular, special service air taxi/commercial operations such as air ambulance services, student instruction, and non-stop sight seeing flights, that begin and end at the airport and are concluded within a 25-mile radius of the airport.

Determination: Approved. Based on information contained in the public agency's application, the FAA has determined that the approved class accounts for less than 1 percent of the total annual enplanements at Hartsfield-Jackson Atlanta International Airport.

Brief Description of Projects Approved for Collection and Use at a $4.50 PFC Level:

Supplemental windcones relocation and directional signage.

Common use baggage handling system.

T-north optimization and expansion—phases I and II.

Deicing system upgrades.

Airfield pavement replacement 2011-2016.

Brief Description of Projects Approved for Collection and Use at a $3.00 PFC Level:

A380 airfield modifications.

A380 terminal modifications.

Land acquisition for airport expansion east.

Airfield lighting vaults emissions reduction modifications.

Airport sustainability plan.

Terminal upgrades—concourse D.

Airport master plan update.

Decision Date: October 19, 2011.

For Further Information Contact: Anna Guss, Atlanta Airports District Office, (404) 305-7146.

Public Agency: City of Billings, Montana.

Application Number: 12-07-C-00-BIL.

Application Type: Impose and use a PFC.

PFC Level: $3.00.

Total PFC Revenue Approved in this Decision: $2,020,000.

Earliest Charge Effective Date: December 1, 2011.

Estimated Charge Expiration Date: October 1, 2013.

Class of Air Carriers Not Required to Collect PFC's: None.

Brief Description of Projects Approved For Collection and Use:

Snow removal equipment replacement.

Terminal security lobby expansion. Update airport storm water system plan.

Airfield storm water detention improvements.

Decision Date: October 20, 2011.

For Further Information Contact: Dave Stelling, Helena Airports District Office, (406) 449-5257.

Public Agency: Port of Seattle, Seattle, Washington.

Application Number: 11-07-C-00-SEA.

Application Type: Impose and use a PFC.

PFC Level: $4.50.

Total PFC Revenue Approved in this Decision: $155,720,118.

Earliest Charge Effective Date: January 1, 2027.

Estimated Charge Expiration Date: November 1, 2028.

Class of Air Carriers Not Required to Collect PFC's: None.

Brief Description of Project Approved For Collection and Use at a $4.50 PFC Level: In-line baggage system.

Decision Date: October 21, 2011.

For Further Information Contact: Trang Tran, Seattle Airports District Office, (425) 227-1662.

Public Agency: County of Oneida and City of Rhinelander, Rhinelander, Wisconsin.

Application Number: 12-12-C-00-RHI.

Application Type: Impose and use a PFC.

PFC Level: $4.50.

Total PFC Revenue Approved in this Decision: $35,135.

Earliest Charge Effective Date: December 1, 2011.

Estimated Charge Expiration Date: June 1, 2012.

Class of Air Carriers Not Required to Collect PFC's: Nonscheduled/on-demand air carriers filing FAA Form 1800-31.

Determination: Approved. Based on information contained in the public agency's application, the FAA has determined that the approved class accounts for less than 1 percent of the total annual enplanements at Rhinelander/Oneida County Airport.

Brief Description of Projects Approved for Collection and Use:

Update master plan.

Electrical vault remodel.

Design taxiway A, Al, A3, B and D reconstruction.

Airfield pavement plus incursion markings.

Wind cone lighting upgrade.

Rehabilitate taxiways.

PFC administration.

Decision Date: October 24, 2011.

For Further Information Contact: Daniel Millenacker, Minneapolis Airports District Office, (612) 713-4359.

Amendments to PFC Approvals
Amendment No., city, state | Amended approved date | Original approved net PFC revenue | Amended approved net PFC revenue | Original estimated charge exp. date | Amended estimated charge exp. date
05-10-C-09-MCO, Orlando, FL | 09/27/11 | $745,803,511 | $749,303,511 | 12/01/19 | 12/01/19
06-06-C-02-GRK, Killeen, TX | 09/28/11 | 2,780,476 | 2,494,772 | 01/01/10 | 01/01/10
09-13-C-01-MCO, Orlando, FL | 09/29/11 | 227,788,000 | 227,788,000 | 02/01/26 | 02/01/26
09-01-C-01-CHS, Charleston, SC | 09/29/11 | 7,933,920 | 14,833,920 | 12/01/11 | 06/01/13
07-02-C-01-NYL, Yuma, AZ | 09/30/11 | 1,155,674 | 1,455,674 | 01/01/13 | 01/01/14
01-03-C-01-LWS, Lewiston, ID | 10/05/11 | 1,171,746 | 1,300,088 | 07/01/16 | 02/01/12
08-04-C-01-RST, Rochester, MN | 10/07/11 | 1,555,114 | 1,319,101 | 01/01/11 | 07/01/10
08-14-C-02-MKE, Milwaukee, WI | 10/07/11 | 16,860,334 | 19,730,334 | 08/01/20 | 11/01/20
11-07-C-01-PUW, Pullman, WA | 10/11/11 | 101,950 | 210,700 | 03/01/12 | 11/01/12
00-03-C-03-CSG, Columbus, GA | 10/12/11 | 864,065 | 876,138 | 11/01/06 | 11/01/06
05-02-C-02-ANC, Anchorage, AK | 10/14/11 | 25,000,000 | 85,000,000 | 07/01/15 | 12/01/26
11-07-C-01-LFT, Lafayette, LA | 10/21/11 | 1,000,000 | 1,965,000 | 05/01/14 | 05/01/15
94-01-C-06-1SP, Ronkonkoma, NY | 10/26/11 | 21,865,831 | 22,382,626 | 07/01/04 | 07/01/04
96-02-C-02-ISP, Ronkonkoma, NY | 10/26/11 | 4,059,528 | 4,497,958 | 03/01/05 | 03/01/05

Issued in Washington, DC on November 3, 2011.
Joe Hebert,
Manager, Financial Analysis and Passenger Facility Charge Branch.

[FR Doc. 2011-29275 Filed 11-14-11; 8:45 am]

BILLING CODE 4910-13-M